ENVIRONMENTAL PROTECTION AGENCY

[ER-FRL-9013-2]

Environmental Impact Statements; Notice of Availability

Responsible Agency: Office of Federal Activities, General Information (202) 564-7146 or http://www.epa.gov/compliance/nepa/.

Weekly receipt of Environmental Impact Statements Filed 01/13/2014 Through 01/17/2014 Pursuant to 40 CFR 1506.9.

Notice

Section 309(a) of the Clean Air Act requires that EPA make public its comments on EISs issued by other Federal agencies. EPA's comment letters on EISs are available at: http://www.epa.gov/compliance/nepa/eisdata.html

EIS No. 20140012, Draft EIS, HHS, GA, Centers for Disease Control and Prevention Roybal Campus 2015-2025 Master Plan, Comment Period Ends: 03/10/2014, Contact: George Chandler 404-245-2763

EIS No. 20140013, Third Final Supplement, USACE, NM, Rio Grande Floodway, San Acacia to Bosque del Apache Unit, Review Period Ends: 02/24/2014, Contact: Jerry Nieto 505-342-3362

EIS No. 20140014, Second Draft EIS (Tiering), FHWA, IL, Illiana Corridor Project Tier Two Transportation System Improvements, Comment Period Ends: 03/10/2014, Contact: Catherine A. Batey 217-492-4600

EIS No. 20140015, Final EIS, NPS, WY, Remote Vaccination Program to Reduce the Prevalence of Brucellosis in Yellowstone Bison, Review Period Ends: 02/24/2014, Contact: Jennifer Carpenter 307-344-2528

EIS No. 20140016, Draft EIS, USFWS, OH, Ballville Dam Project, Comment Period Ends: 03/26/2014, Contact: Brian Elkington 612-713-5168

EIS No. 20140017, Final EIS, USMC, CA, LEGISLATIVE—Renewal of the Chocolate Mountain Aerial Gunnery Range Land Withdrawal, Review Period Ends: 02/24/2014, Contact: Ms. Kelly Finn 619-532-4452

EIS No. 20140018, Draft EIS, USN, WA, Northwest Training and Testing, Comment Period Ends: 03/25/2014, Contact: John Mosher 360-257-3234

Dated: January 21, 2014.
Dawn Roberts,
Management Analyst, NEPA Compliance Division, Office of Federal Activities.

[FR Doc. 2014-01422 Filed 1-23-14; 8:45 am]

BILLING CODE 6560-50-P